DEPARTMENT OF THE INTERIOR

National Park Service

30 Day Notice of Intention To Request for Clearance of Information Collection to the Office of Management and Budget; Opportunity for Public Comment.

AGENCY: National Park Service, The Department of the Interior.

ACTION: Notice and request for comments.

SUMMARY: Under the Provisions of the Paperwork Reduction Act of 1995 (Pub. L. 104-13, 44 U.S.C. 3507) and 5 CFR, part 1320 Reporting and Record Keeping Requirements, the National Park Service (NPS) invites comments on a submitted request to the Office of Management and Budget (OMB) to approve an extension of a currently approved information collection (OMB #1024-0022). This information collection is associated with permits implementing provisions of the agency regulations pertaining to the use of public lands. The information collected critical to backcountry managers and allows them to monitor levels of use to identify any impacts to the resources.

DATES: Public comments on this final notice must be received by July 16, 2004 to be assured of consideration.

The bureau solicits public comments as to:

(1) Whether the collection of information is necessary for the proper performance of the functions of the bureau, including whether the information will have practical utility;

(2) The accuracy of the bureau's estimate of the burden of the collection of information, including the validity of the methodology and assumptions used;

(3) The quality, utility, and clarity of the information to be collected; and

(4) How to minimize the burden of the collection of information on those who are to respond, including the use of appropriate automated electronic, mechanical, or other forms of information technology.

ADDRESSES: You may submit comments directly to the Desk Officer for the Department of the Interior (OMB#1024-0022), Office of Information and Regulatory Affairs, OMB, by fax at 202/395-6566, or by electronic mail at OIRA_DOCKET@omb.eop.gov. Please also mail or hand carry a copy of your comments to Lee Dickinson, National Park Service, 1849 C Street, NW, (2460), Washington, DC 20240. Electronic mail may also be sent to Lee_Dickinson@nps.gov. All comments will become a matter of public record.

For Further Information or a copy of the Study Package Submitted for OMB Review Contact: Lee Dickinson, Special Park Uses Program Manager, National Park Service at 202/513-7092 or electronic mail at Lee_Dickinson@nps.gov.

SUPPLEMENTARY INFORMATION: (1) Title: Backcountry Use Permit. (36 CFR 1.5, 1.6 and 2.1).

(2) Form Number: 10-404A.

(3) OMB Number: 1024-0022.

(4) Expiration Date: 4/30/04.

(5) Type of Request: Extension of a currently approved collection.

(6) Description of Need: collection of information allows park managers to monitor backcountry use and to uniformly distribute necessary guidance and safety information to backcountry users.

(7) Estimated number of Applicants: 285,000.

(8) Estimated number of Responses: 285,000.

(9) Estimated burden per response: 5 minutes.

(10) Estimated Total Annual Burden: 23,750 hours.

Analysis of Comments Regarding the 60 Day Federal Register Notice

There were no comments received from the public on the proposed regulations during the 60-day public comment period that closed February 3, 2004. The forms were first approved in November 1976. No comments concerning the forms have been received in the last 3 years.

Dated: April 22, 2004.
Leonard E. Stowe,
Acting NPS Information Collection Clearance Officer, Washington Administrative Program Center.

[FR Doc. 04-13518 Filed 6-15-04; 8:45 am]

BILLING CODE 4312-52-M